DEPARTMENT OF COMMERCE

National Oceanic and Atmospheric Administration

[I.D. 101106D]

Endangered and Threatened Species; Revision of Species of Concern List, Candidate Species Definition, and Candidate Species List

AGENCY: National Marine Fisheries Service (NMFS), National Oceanic and Atmospheric Administration (NOAA), Commerce.

ACTION: Notice; revision of species of concern list, candidate species definition, and species considered as candidates.

SUMMARY: We, NMFS, revise: our species of concern list by adding three and removing six species; our definition of candidate species; and our candidate species list by adding four species and removing two. We solicit information and comments on the status of, and research and stewardship opportunities for, species of concern.

DATES: These actions are effective on October 17, 2006.

ADDRESSES: Send comments and documentation regarding the status of any species of concern to the Chief of Endangered Species, NMFS, Office of Protected Resources, 1315 East-West Highway, F/PR3, Silver Spring, MD 20910. Comments may also be submitted by e-mail at soc.list@noaa.gov. Include in the subject line of the e-mail comment the following document identifier: Species of Concern List.

FOR FURTHER INFORMATION CONTACT: Marta Nammack at (301)713-1401, ext. 180, marta.nammack@noaa.gov, for general information on the Species of Concern program; Kim Damon-Randall at (978) 281-9300 x6535, kimberly.damon-randall@noaa.gov, for information on the newly designated species of concern.

SUPPLEMENTARY INFORMATION: The regulations implementing section 4 of the ESA (5 U.S.C. 1533) define “candidate” as “any species being considered by the Secretary [of Commerce or Interior] for listing as an endangered or a threatened species, but not yet the subject of a proposed rule” (50 CFR 424.02). Such a designation does not confer any procedural or substantive protections of the ESA on the candidate species.

“Species of concern” are species about which we have some concerns regarding status and threats, but for which insufficient information is available to indicate a need to list the species under the ESA (69 FR 19975; April 15, 2004). Species can qualify as both species of concern and candidate species. This discussion is limited to species under NMFS jurisdiction and does not apply to the regulatory practices of the U.S. Fish and Wildlife Service.

Definition of Candidate Species

On April 15, 2004, (69 FR 19975) we stated that we would limit use of the term “candidate species” to refer to (1) species that are the subject of a petition to list and for which we have determined that listing may be warranted, pursuant to section 4(b)(3)(A), and (2) species for which we have determined, following a status review, that listing is warranted (whether or not they are the subject of a petition). However, in order to be consistent, we intend to include non-petitioned species for which we have announced the initiation of a formal status review in our definition of candidate species. “Candidate species” will henceforth refer to (1) species that are the subject of a petition to list and for which we have determined that listing may be warranted, pursuant to section 4(b)(3)(A), and (2) species that are not the subject of a petition but for which we have announced the initiation of a status review in the Federal Register. In other words, any species that is undergoing a status review that we have announced in a Federal Register notice will be considered a candidate species.

Species of Concern

In our April 15, 2004, notice establishing the species of concern list (69 FR 19975), we described factors that we consider when identifying species of concern. Rationale for identifying each species of concern is available at http://www.nmfs.noaa.gov/pr/species/concern. We intend to publish annual updates of our species of concern list in the Federal Register. Table 1 at the end of this Notice lists the current species of concern. We are adding three species to and removing six species from the species of concern list. Also, two species are removed from the candidate species list, while four species of concern are added to the candidate list because they are undergoing formal status reviews.

Initiation of a status review does not mean that an ESA listing is imminent. Even after a status review has been conducted, it is possible that the available information will be insufficient to make a determination on the status of the species or that the information will indicate that an ESA listing is not warranted. Species of concern status serves to promote conservation and research efforts for these species.

Adding Three Species of Concern

We have identified three new species of concern: the porbeagle (Lamna nasus), alewife (Alosa pseudoharengus), and blueback herring (Alosa aestivalis). A short synopsis of their status and factors for decline are presented here. More detailed information on these species is available at http://www.nmfs.noaa.gov/pr/species/concern/.

The porbeagle is a slow growing coastal shark, with a relatively late age at maturity. It has been overfished over the last four decades, resulting in a 90 percent loss of the sexually mature population. In 2006 the International Union for Conservation of Nature and Natural Resources assessed the status of this species as Vulnerable globally, Endangered in the Northwest Atlantic, and Critically Endangered in the Northeast Atlantic and Mediterranean. In May 2004, the Committee on the Status of Endangered Wildlife in Canada recommended to the Canadian Minister of Fisheries that this species be listed as endangered under the Species at Risk Act. While the Highly Migratory Species Fishery Management Plan includes fishery restrictions for sharks in the United States, none of these restrictions, except for an annual quota of 92 metric tons, are specific to the porbeagle.

The alewife and blueback herring are fishes collectively referred to as “river herring.” Due to difficulties in distinguishing the two species, they are often harvested and managed together. Landings statistics and the numbers of fish observed on annual spawning runs indicate a drastic decline in river herring populations throughout much of their range since the mid-1960s. Though factors responsible for this decline have yet to be identified, decreased access to spawning areas from the construction of dams, other impediments to migration, degradation of habitat, overfishing, and increased predation by recovering striped bass populations have likely contributed to their decline.

Removing Six Species

We have removed six species from the species of concern list. The southern distinct population segment (DPS) of green sturgeon (Acipenser medirostris), Lower Columbia River coho salmon evolutionarily significant unit (ESU) (Oncorhynchus kisutch), elkhorn coral (Acropora palmata), and staghorn coral (Acropora cervicornis) are being removed from this list because we have listed them as threatened (green sturgeon—67 FR 17757; April 7, 2006), (coho--70 FR 37160; June 28, 2005), (elkhorn coral and staghorn coral—71 FR 26852; May 9, 2006). We are removing the goliath grouper (Epinephelus itajara) from the species of concern list because the January 2006 status report written by a review team appointed by NMFS' Southeast Region indicated that the species no longer met the criteria for being a species of concern (January 17, 2006, memorandum from Roy Crabtree, Regional Administrator, Southeast Region, to Jim Lecky; February 10, 2006, concurrence by Jim Lecky, Director, Office of Protected Resources). And the Oregon Coast coho salmon (Oncorhynchus kisutch) ESU is no longer a species of concern because, after proposing to list the species as threatened under the ESA, we withdrew the proposal because of ongoing conservation efforts that are likely to improve the status of this species (71 FR 3033; January 19, 2006).

Candidate Species

Since we last published an updated species of concern list, there have also been changes to the candidate species list. Two former species of concern that were also candidate species because of ongoing status reviews are no longer species of concern or candidate species: the Lower Columbia River coho salmon ESU and the Oregon Coast coho salmon ESU. As described above, these species are no longer species of concern, and they are also no longer candidate species.

New Candidate Species

We are adding four species to the candidate species list. Since we are now including as candidate species those species for which we have initiated our own formal status reviews, the following three species are now considered to be candidate species: Atlantic sturgeon (Acipenser oxyrinchus oxyrinchus, this Federal Register notice), Atlantic salmon populations in Maine outside the range of the listed Gulf of Maine DPS (Salmo salar, 71 FR 55431; September 22, 2006), and black abalone (Haliotis cracherodii, announced in this issue of the Federal Register). The Cook Inlet DPS of the beluga whale (Delphinapterus leucas) is also a candidate species both because announced the initiation of a status review (71 FR 14836; March 24, 2006), and we also made a 90-day finding that the subsequent petition to list the species presented substantial information indicating that the petitioned action may be warranted (71 FR 44614; August 7, 2006).

Atlantic sturgeon

In 1998, in response to a petition to list Atlantic sturgeon under the ESA, NMFS and the U.S. Fish and Wildlife Service (FWS) published a determination that listing the species was not warranted at that time (63 FR 50187; September 21, 1998). NMFS also retained this species on its candidate species list in order to continue to monitor its status (63 FR 50211; September 21, 1998) and later transferred it to its newly established species of concern list (69 FR 19975; April 15, 2004). In 2005, following two separate workshops which highlighted ongoing concerns regarding the current status of Atlantic sturgeon, NMFS initiated a new status review. We formed a biological review team (BRT) comprised of representatives from NMFS, FWS, and the U.S. Geological Survey to compile information on the status of Atlantic sturgeon. The BRT drafted a status review report which is undergoing peer review at this time. We expect to use the status review report to make a determination on whether listing Atlantic sturgeon or distinct population segments of this species is warranted at this time.

Atlantic salmon

A BRT consisting of biologists from the Maine Atlantic Salmon Commission, Penobscot Indian Nation, NMFS, and FWS has completed a status review report for Atlantic salmon Status Review for Anadromous Atlantic Salmon (Salmo salar) in the United States, July 2006). This updates the 1999 status review report on which we based our determination to list the Gulf of Maine DPS of Atlantic salmon as endangered (65 FR 69459; November 17, 2000) by analyzing new information and assessing the status of other populations in Maine in relation to the Gulf of Maine DPS. We published a Notice of Availability for the status review report in the Federal Register (71 FR 55431; September 22, 2006), and we will publish our determination on whether a modification to the existing listing or a new listing is warranted.

Species of Concern Table

Table 1 contains a complete list of NMFS' species of concern. In Table 1, the common name appears as the first entry followed by the scientific name, the family name, and the area of concern. The area of concern denotes the general geographic range of the species or the vertebrate population for which concern has been expressed. Results of status reviews may narrow or expand the geographic areas or populations of concern in the future. Additionally, species of concern that are also considered to be candidate species because they are undergoing formal status reviews are denoted in boldface type. It is important to note that the species of concern list is limited by the information available. Any species of concern identified during the period between this revision and the next Federal Register publication will be listed on our web page (http://www.nmfs.noaa.gov/pr/species/concern).

Comments Solicited

We solicit information on the biology of, threats to, and relevant research and stewardship opportunities for species of concern (see ADDRESSES). This information will help guide us in future revisions of the species of concern list and allocation of resources for species of concern. There is no deadline for submitting such information.

Dated: October 10, 2006.
James H. Lecky,
Director, Office of Protected Resources,National Marine Fisheries Service.

Table 1 - Species of Concern List
Common Name | Scientific Name | Family | Area of Concern ¹
Marine Mammals |  |  |
beluga whale | Delphinapterus leucas | Monodontidae | Pacific-AK (Cook Inlet population).
Fishes |  |  |
sand tiger shark | Odontaspis taurus | Odontaspididae | Atlantic, Gulf of Mexico.
porbeagle | Lamna nasus | Lamnidae | Atlantic, Newfoundland, Canada to New Jersey
dusky shark | Carcharhinus obscurus | Carcharhinidae | Atlantic, Gulf of Mexico-Western North Atlantic DPS.
night shark | Carcharinus signatus | Carcharhinidae | Atlantic, Gulf of Mexico.
largetooth sawfish | Pristis pristis | Pristidae | Atlantic-TX, FL.
barndoor skate | Pristis pristis | Rajidae | Atlantic-Newfoundland, Canada to Cape Hatteras, NC.
thorny skate | Raja radiata | Rajidae | Atlantic-West Greenland to NY.
Atlantic sturgeon | Acipenser oxyrinchus oxyrinchus | Acipenseridae | Atlantic-Labrador to St. Johns R., FL; anadromous.
green sturgeon | Acipenser medirostris | Acipenseridae | Pacific-northern DPS (including coastal spawning populations from the Eel River north, to the Klamath and Rogue rivers); anadromous.
blueback herring | Alosa aestivalis | Clupeidae | Atlantic-Cape Breton, Nova Scotia, to St. John's River, FL.
Alabama shad | Alosa alabamae | Clupeidae | Gulf of Mexico-AL, FL, anadromous.
alewife | Alosa pseudoharengus | Clupeidae | Atlantic-Newfoundland to North Carolina.
coho salmon | Oncorhynchus kisutch | Salmonidae | Pacific-Puget Sound/Strait of Georgia coho ESU; anadromous.
steelhead trout | Oncorhynchus mykiss | Salmonidae | Pacific-OR Coast ESU; anadromous.
Chinook salmon | Oncorhynchus tshawytscha | Salmonidae | Pacific-Central Valley fall and late fall-run ESU
Atlantic salmon | Salmo salar | Salmonidae | Atlantic-Gulf of Maine (other populations in streams and rivers in Maine outside the range of the listed Gulf of Maine Atlantic salmon DPS); anadromous.
rainbow smelt | Osmerus mordax | Osmeridae | Atlantic-Labrador to NJ; anadromous.
cusk | Brosme brosme | Gadidae | Atlantic-Gulf of Maine.
Pacific hake | Merluccius productus | Gadidae | Pacific-Georgia Basin DPS.
mangrove rivulus | Rivulus marmoratus | Aplocheilidae | Atlantic-FL, estuarine.
saltmarsh topminnow | Fundulus jenkinsi | Cyprinodontidae | Atlantic-TX, LA, MS, AL, FL.
key silverside | Menidia conchorum | Atherinidae | Atlantic-Florida Keys.
opossum pipefish | Microphis brachyurus lineatus | Syngnathidae | Atlantic-Florida (Indian River Lagoon).
striped croaker | Bairdiella sanctaeluciae | Sciaenidae | Atlantic-FL, Antilles and Caribbean from Costa Rica to Guyana.
humphead wrasse | Cheilinus undulatus | Labridae | Indo-Pacific-Red Sea to the Tuamotus, north to the Ryukyus, east to Wake Islands, south to New Caledonia, throughout Micronesia; includes U.S. territories of Guam and American Samoa.
bumphead parrotfish | Bolbometopon muricatum | Scaridae | Indo-Pacific-Red Sea and East Africa to the Line Islands and Samoa; north to Yaeyama, south to the Great Barrier Reef and New Caledonia; Paulau, Caroline, Mariana in Micronesia; in U.S. it occurs in Guam, American Samoa, CNMI and the Pacific Remote Island Areas (Wake Islands).
Atlantic wolffish | Anarhichas lupus | Anarhichadidae | Atlantic-Georges Bank and western Gulf of Maine.
white marlin | Tetrapturus albidus | Istiophoridae | Atlantic.
cowcod | Sebastes levis | Scorpaenidae | Pacific-Central OR to central Baja California and Guadalupe Island, Mexico.
bocaccio | Sebastes paucispinis | Scorpaenidae | Pacific-Southern DPS (Northern CA to Mexico).
Atlantic halibut | Hippoglossus hippoglossus | Pleuronectidae | Atlantic-Labrador to southern New England.
speckled hind | Epinephelus drummondhayi | Serranidae | Atlantic-NC to Gulf of Mexico.
warsaw grouper | Epinephelus nigritus | Serranidae | Atlantic-MA southward to Gulf of Mexico.
Nassau grouper | Epinephelus striatus | Serranidae | Atlantic-NC southward to Gulf of Mexico.
Brachiopoda |  |  |
inarticulate brachiopod | Lingula reevii | Lingulidae | Pacific-Hawaii, only Kaneohe Bay.
Mollusks |  |  |
pink abalone | Haliotis corrugata | Haliotidae | Pacific-Point Conception, CA, to Bahia de Tortuga, Baja California.
black abalone | Haliotis cracherodii | Haliotidae | Pacific-OR, CA, Baja California.
green abalone | Haliotis fulgens | Haliotidae | Pacific-Point Conception, CA, to Bahia Magdalena, Baja California.
pinto abalone | Haliotis kamtschatkana | Haliotidae | Pacific-Sitka, AK, to Point Conception, CA.
Anthozoans (Corals) |  |  |
Hawaiian reef coral | Montipora dilitata | Acroporidae | Pacific-Hawaii (Kaneohe Bay, Midway atoll, and Maro Reef).
ivory bush coral | Oculina varicosa | Oculinidae | Atlantic-West Indies, Bermuda, NC, FL, Gulf of Mexico, Caribbean.
¹ Defines the general geographic area or populations of concern for the species.
DPS = distinct population segment, which is a species for purposes of the ESA.
ESU = evolutionarily significant unit, which is a DPS or species for purposes of the ESA

[FR Doc. E6-17249 Filed 10-16-06; 8:45 am]

BILLING CODE 3510-22-S